DEPARTMENT OF VETERANS AFFAIRS

Increase in Mileage Reimbursement Rate and Deductible Amounts in the Beneficiary Travel Program

AGENCY: Department of Veterans Affairs.

ACTION: Notice.

SUMMARY: This Notice is to inform the public of the Secretary's decision to increase the Department of Veterans Affairs (VA) Beneficiary Travel program mileage reimbursement rate under 38 U.S.C. 111 for travel of eligible beneficiaries in connection with VA health care and for other purposes. Effective November 17, 2008, the beneficiary travel mileage reimbursement rate is increased from 28.5 cents to 41.5 cents based upon mileage traveled to or from a Department facility or other place in connection with vocational rehabilitation, counseling required by the Secretary pursuant to 38 U.S.C. Chapter 34, “Educational Assistance” or Chapter 35, “Survivors and Dependents' Education Assistance” or for the purpose of examination, treatment or care. The deductible requirements for purposes of beneficiary travel of mileage reimbursement will remain at $7.77 one-way; $15.54 round trip; with a monthly cap of $46.62.

FOR FURTHER INFORMATION CONTACT: Tony A. Guagliardo, Director, Business Policy, Chief Business Office (16), VA Central Office, 810 Vermont, NW., Washington, DC 20420, (202) 461-1591. (This is not a toll-free number.)

SUPPLEMENTARY INFORMATION: In accordance with 38 U.S.C. 111, “Payments or Allowances for Beneficiary Travel” the Secretary has authority to establish rates for payment of mileage reimbursement for certain eligible beneficiaries. Funding for beneficiary travel mileage reimbursement comes directly from the annual health care appropriation and General Operating Expenses cover the Chapter 34 and Chapter 35 reimbursement. The 2009 Appropriations Act provided funding in VA's health care appropriation to increase the beneficiary travel mileage reimbursement rate to 41.5 cents per mile and provided instructions to freeze the deductible (currently $7.77 for each one way trip; $15.54 per round trip; with a calendar month cap of $46.62).

Public Law 110-387, “Veterans' Mental Health and Other Care Improvements Act of 2008” signed October 10, 2008, revises 38 U.S.C. 111 to establish a mileage reimbursement rate equal to that for Federal employees when a Government vehicle is available, but the individual chooses to use their own vehicle (currently this rate is $.285 per mile). However, this law also provides that, subject to available appropriations, the Secretary may prescribe a rate higher than the mandated Federal employee rate. Further, Public Law 110-387 changes the VA Beneficiary Travel Program (BT) mileage deductible to $3 for each one-way trip; $6 per round trip; with a calendar month cap of $18 as specified in 38 U.S.C. 111 (c)(1) and (2). These provisions apply to travel expenses incurred on or after January 9, 2009. Note: Deductibles may be waived in accordance with 38 CFR 70.31(c) when their imposition would cause severe financial hardship.

The Secretary has thus made the decision to increase VA's beneficiary travel mileage reimbursement rate to 41.5 cents per mile while freezing the current deductible thresholds ($7.77 for each one way trip; $15.54 per round trip; with a calendar month cap of $46.62) effective November 17, 2008, until January 9, 2009, at which time the mileage reimbursement rate will remain at 41.5 cents per mile while the deductibles will revert to $3 for each one-way trip; $6 per round trip; with a calendar month cap of $18, for travel expenses incurred on or after January 9, 2009.

In making this decision, the Secretary also reviewed and analyzed other factors including the increase in the cost of depreciation of vehicles, gasoline and oil, maintenance, accessories, parts, and tires, insurances and taxes; the availability of and time required for public transportation; and the other mileage allowances authorized for Federal employees.

Approved: November 13, 2008.
James B. Peake,
Secretary of Veterans Affairs.

[FR Doc. E8-27339 Filed 11-17-08; 8:45 am]

BILLING CODE 8320-01-P